FEDERAL RETIREMENT THRIFT INVESTMENT BOARD

Employee Thrift Advisory Council Meeting; Sunshine Act; Notice of Meeting

Time and Date: 9 a.m. (Eastern Time), October 19, 2009.

Place: 2nd Floor Training Room, 1250 H Street, NW., Washington, DC 20005.

Status: Parts will be open to the public and parts closed to the public.

Matters to be Considered:

Parts Open to the Public

1. Approval of the minutes of the September 24, 2009 Board member meeting.

2. Approval of the Minutes of the April 22, 2009 ETAC meeting.

3. Thrift Savings Plan activity report by the Executive Director.

a. Participant Activity Report.

b. Quarterly Investment Policy Report.

4. Mid-Year Financial Audit Report.

5. Quarterly Vendor Financial Report.

6. Legislative Report.

a. Thrift Savings Plan Enhancement Act Review;

b. Report on Making Retirement Contributions from Unused Leave.

7. Web site Demonstration.

8. TSP Modernization Update.

Parts Closed to the Public

9. Proprietary Information.

Contact Person for More Information: Thomas J. Trabucco, Director, Office of External Affairs, (202) 942-1640.

Dated: October 8, 2009.
Thomas K. Emswiler,
Secretary, Federal Retirement Thrift Investment Board.

[FR Doc. E9-24737 Filed 10-9-09; 11:15 am]

BILLING CODE 6760-01-P